DEPARTMENT OF COMMERCE

International Trade Administration

[A-427-808]

Certain Corrosion-Resistant Carbon Steel Flat Products From France: Notice of Intent To Rescind Administrative Review

AGENCY: Import Administration, International Trade Administration, Department of Commerce.

SUMMARY: On September 28, 2005, the Department of Commerce (the Department) published a notice of initiation of an administrative review of the antidumping duty (AD) order on certain corrosion-resistant carbon steel flat products (CORE) from France for the period August 1, 2004, through July 31, 2005. The Department intends to rescind this review after determining that the party subject to this review did not have entries during the period of review (POR) upon which to assess antidumping duties.

EFFECTIVE DATE: December 12, 2005.

FOR FURTHER INFORMATION CONTACT: Stephen Bailey or Dena Aliadinov, AD/CVD Operations, Office 7, Import Administration, International Trade Administration, U.S. Department of Commerce, 14th Street and Constitution Avenue, NW., Washington, DC 20230; telephone: (202) 482-0193 or (202) 482-3362, respectively.

SUPPLEMENTARY INFORMATION: On August 1, 2005, the Department published a notice of opportunity to request an administrative review of the antidumping duty order on CORE from France for the period August 1, 2004, through July 31, 2005. See Antidumping or Countervailing Duty Order, Finding, or Suspended Investigation; Opportunity to Request Administrative Review, 70 FR 44085 (August 1, 2005). On August 31, 2005, United States Steel Corporation, petitioner, and Duferco Coating SA and Sorral SA, French producers and exporters of the subject merchandise, and Duferco Steel, Inc. (the U.S. importer of subject merchandise exported to the United States by Duferco Coating SA and Sorral SA) (collectively “Duferco”), made timely requests that the Department conduct an administrative review of Duferco.¹ In its August 31, 2005, submission, Duferco requested that the Department conduct a review of its sale of subject merchandise to an unaffiliated customer during the POR, pursuant to section 351.213(e)(1), which states that an administrative review “normally will cover, as appropriate, entries, exports, or sales of subject merchandise during the 12 months immediately preceding the most recent anniversary month.” Duferco also requested that the Department rely on the entry summary date (August 11, 2004) for administrative review purposes, or align the AD administrative review period with the countervailing duty review period (i.e., initiate an AD review for the period January 1, 2004, through December 31, 2004).

¹ On October 6, 2005, October 26, 2005, and November 15, 2005, respectively, Ispat Inland Inc., Mittal Steel USA ISG Inc., and Nucor Corporation submitted their entries of appearance as interested parties.

On September 23, 2005, petitioner formally objected to Duferco's request that the Department align the AD and CVD reviews, stating that this practice is not based on the statute, the Department's regulations, or precedent. On September 28, 2005, in accordance with section 751(a) of the Tariff Act of 1930, as amended (the Act), the Department published in the Federal Register a notice of initiation of this AD administrative review. See Initiation of Antidumping and Countervailing Duty Administrative Reviews and Request for Revocation in Part, 70 FR 56631 (September 28, 2005). On October 7, 2005, the Department issued its AD questionnaire to Duferco.

Scope of the Order

For purposes of this order, the products covered are corrosion-resistant carbon steel flat products, which covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) of the United States under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in the order are flat-rolled products of non-rectangular cross-section where such cross-section is achieved subsequent to the rolling process (i.e., products which have been “worked after rolling”)—for example, products which have been beveled or rounded at the edges. Excluded from the order are flat-rolled steel products either plated or coated with tin, lead, chromium, chromium oxides, both tin and lead (“terne plate”), or both chromium and chromium oxides (“tin-free steel”), whether or not painted, varnished or coated with plastics or other nonmetallic substances in addition to the metallic coating. Also excluded from the order are clad products in straight lengths of 0.1875 inch or more in composite thickness and of a width which exceeds 150 millimeters and measures at least twice the thickness. Also excluded from the order are certain clad stainless flat-rolled products, which are three-layered corrosion-resistant carbon steel flat-rolled products less than 4.75 millimeters in composite thickness that consist of a carbon steel flat-rolled product clad on both sides with stainless steel in a 20%-60%-20% ratio.

These HTS item numbers are provided for convenience and customs purposes. The written descriptions remain dispositive.

Intent To Rescind Administrative Review

On October 24, 2005, the Department requested documentation relating to all entrie(s) or sale(s) made by Duferco during the POR. On November 2, 2005, Duferco responded to the Department's request for documentation by providing, among other documents, CBP Form 7501 (Entry Summary), CBP Form 3461 (Entry/Immediate Delivery), sale invoice, bill of lading and packing list. See Duferco Coating SA and Sorral SA, and Duferco Steel Inc. submission regarding documentation relating to all entrie(s) or sale(s) made by Duferco during the review period, dated November 2, 2005. The entry date (box 4) on CBP Form 7501 indicates that subject merchandise entered the United States prior to the POR. Additionally, the Department conducted an internal customs data query, which determined that Duferco had no entries of subject merchandise into the United States during the POR.

In its August 31, 2005, request for review, Duferco contends that the Department can conduct an administrative review, in accordance with section 351.213(e)(1) of the Department's regulations, because its sale to an unaffiliated customer occurred within the POR. While the Department maintains the discretion to conduct reviews of sales or exports if circumstances warrant, the Department's consistent, long-standing practice is to require that there be entries during the POR upon which to assess antidumping duties, irrespective of the export-price or constructed export-price designation of the U.S. sales. See, e.g., Granular Polytetrafluoroethylene Resin from Japan: Notice of Rescission of Antidumping Duty Administrative Review, 70 FR 44088 (August 1, 2005), and Stainless Steel Plate in Coils from Taiwan: Final Rescission of Antidumping Duty Administrative Review, 69 FR 20859 (April 19, 2004). Furthermore, in Allegheny Ludlum, the Court of Appeals for the Federal Circuit upheld the Department's discretion to determine not to conduct annual reviews, where there were no entries during the POR. Allegheny Ludlum Corp v. United States, 346 F.3d 1368 (Fed. Cir. 2003).

In the present review, the Department has weighed case precedent, our practice under section 351.213(e), and the information on the record of this proceeding in determining whether we should rescind this administrative review. The record in this proceeding does not support a conclusion that the Department should deviate from our normal practice of conducting administrative reviews of entries rather than sales.

Additionally, Duferco could have requested that the Department review its entry in the prior administrative review. See Antidumping or Countervailing Duty Order, Finding, or Suspended Investigation; Opportunity to Request Administrative Review, 69 FR 46496 (August 3, 2004) (providing an opportunity to request a review of the CORE from France AD order for the August 1, 2003-July 31 2004 POR). Duferco did not take the opportunity to request a review of its entries in the review period in which such entries occurred. See Initiation of Antidumping and Countervailing Duty Administrative Reviews and Request for Revocation in Part, 69 FR 56745 (September 22, 2004).

Duferco argues in the alternative that the entry summary date, box 3 on Customs and Border Protection (CBP) Form 7501, is within the POR and is the date the Department should use to determine whether the entry occurred during the POR. We disagree with Duferco that the entry summary date is the date the Department should rely on for purposes of establishing when the merchandise entered the Customs territory of the United States for consumption. In Certain Cut-to-Length Carbon Steel Plate from Romania, the Department relied on the date on which the merchandise was released by CBP as the date of entry of the subject merchandise in that review. See Certain Cut-to-Length Carbon Steel Plate from Romania: Final Results of Antidumping Duty Administrative Review, 66 FR 2879 (January 12, 2001) and corresponding Issues and Decision Memorandum at Comment 1. The “release date” appears in box 4 of CBP Form 7501 as the “entry date.” According to CBP's Automated Customs System and box 4 of Duferco's CBP Form 7501, obtained from CBP and placed on the record by the Department, the entry in question was entered for consumption prior to the current POR. See The Department's Memorandum to the File, dated November 18, 2005, with Duferco's CBP Form 7501 included as an attachment.

Pursuant to § 351.213(d)(3) of the Department's regulations, the Department will rescind an administrative review if it concludes that during the POR there were no entries, exports, or sales of the subject merchandise, as the case may be. In this case, the Department has determined to conduct an administrative review of entries during the POR. Because record evidence demonstrates that no such entries occurred, pursuant to section 351.213(d)(3), we intend to rescind the 2004-2005 administrative review.

Public Comment

An interested party may request a hearing within 20 days of publication of this notice. Any hearing, if requested, will be held 34 days after the date of publication of this notice, or the first working day thereafter. Interested parties may submit case briefs not later than 20 days after the date of publication of this notice. Rebuttal briefs, which must be limited to issues raised in such briefs, must be filed not later than 7 days from the case brief after the date of publication of this notice. Parties who submit arguments are requested to submit with the argument (1) a statement of the issue, (2) a brief summary of the argument, and (3) a table of authorities. Further, parties submitting written comments should provide the Department with an additional copy of the public version of any such comments on diskette. We will issue our final decision concerning the conduct of the review no later than 120 days from the date of publication of this notice.

Additionally, if the Department makes a final determination to rescind the 2004-2005 administrative review, the cash-deposit rate will remain at 29.41 percent for Duferco and all other producers/exporters of subject merchandise from France. See Certain Hot-Rolled Carbon Steel Flat Products, Certain Cold-Rolled Carbon Steel Flat Products, Certain Corrosion-Resistant Carbon Steel Flat Products, and Certain Cut-to-Length Carbon Steel Plate From France; Notice of Final Court Decision and Amended Final Determinations, 61 FR 51274 (October 1, 1996).

This notice is published in accordance with section 777(i) of the Act and section 351.213(d)(4) of the Department's regulations.

Dated: December 6, 2005.
Joseph A. Spetrini,
Acting Assistant Secretary for Import Administration.

[FR Doc. E5-7233 Filed 12-9-05; 8:45 am]

BILLING CODE 3510-DS-P